DEPARTMENT OF COMMERCE

National Oceanic and Atmospheric Administration

RIN 0648-XD608

Endangered Species; File No. 19255

AGENCY: National Marine Fisheries Service (NMFS), National Oceanic and Atmospheric Administration (NOAA), Commerce.

ACTION: Notice; issuance of a permit, and termination of a permit.

SUMMARY: Notice is hereby given that the Delaware Department of Natural Resources and Environmental Control (DNREC) [Responsible Party: Michael Stangl], 3002 Bayside Dr., Dover, Delaware 19977, has been issued a permit to take shortnose (Acipenser brevirostrum) and Atlantic (Acipenser oxyrinchus oxyrinchus) sturgeon in the Delaware River for purposes of scientific research. Additionally, Permit No. 16431, issued to the same Permit Holder for study of Atlantic sturgeon, is hereby terminated.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Malcolm Mohead or Rosa L. González, (301) 427-8401.

SUPPLEMENTARY INFORMATION: On November 17, 2014, notice was published in the Federal Register (79 FR 68413) of a request for a permit to conduct research on shortnose sturgeon had been submitted by the above-named applicant. On June 26, 2015, notice was published in the Federal Register (80 FR 36770) that the application was amended to include a request to conduct research on Atlantic sturgeon. The requested permit has been issued under the authority of the Endangered Species Act of 1973, as amended (ESA; 16 U.S.C. 1531 et seq.) and the regulations governing the taking, importing, and exporting of endangered and threatened species (50 CFR parts 222-226).

Permit No. 19255 authorizes annual takes of endangered shortnose and Atlantic sturgeon to document nursery areas, individual movement patterns, seasonal movements, home ranges, and habitat usage(s) in the Delaware River. The authorized activities include capture of shortnose and Atlantic shortnose with gillnets. It also authorizes individuals to be weighed, measured, marked with Passive Integrated Transponder (PIT), T-bar tagged, anesthetized, acoustic tagged, genetic tissue sampled, gastric lavaged, and photographed. It also authorized one unintentional mortality per species during the life of the permit. Specific activities and number of animals authorized per species are found on the permit. The shortnose sturgeon research activities are a continuation of the ones authorized under the DNREC expired Permit No. 14396 (75 FR 4043). The Atlantic sturgeon research activities were incorporated from the ones authorized under the DNREC Permit No. 16431 (76 FR 58469), which was set to expire April 5, 2017. Permit No. 16431 was terminated with issuance of Permit No. 19225, valid until February 5, 2021.

Issuance of this permit, as required by the ESA, was based on a finding that such permit (1) was applied for in good faith, (2) will not operate to the disadvantage of such endangered or threatened species, and (3) is consistent with the purposes and policies set forth in section 2 of the ESA.

Dated: February 9, 2016.
Perry F. Gayaldo,
Deputy Director, Office of Protected Resources, National Marine Fisheries Service.

[FR Doc. 2016-03026 Filed 2-12-16; 8:45 am]

BILLING CODE 3510-22-P